DEPARTMENT OF THE INTERIOR

Bureau of Land Management

Notice To Amend an Existing System of Records; Privacy Act of 1974; as Amended

AGENCY: Bureau of Land Management, Interior.

ACTION: Notice of amendment to an Existing System of Records.

SUMMARY: Pursuant to the provisions of the Privacy Act of 1974, as amended, the Department of the Interior (DOI) is issuing public notice of its intent to amend the Bureau of Land Management's (BLM) Range Management System—Interior, LLM-2 notice. The amendment includes changes to “System location,” “Disclosures outside the Department of the Interior,” “Storage,” “Retrievability,” “Safeguards,” “Retention and Disposal,” “System Manager(s) and Address,” “Notification Procedures,” “Record Access Procedures,” and “Contesting Record Procedures.” The category “Security Classification” has been added. The amended system of records is captioned “Interior-LLM-2” and is titled “Range Management System.”

DATES: Comments must be received by February 7, 2011.

ADDRESSES: Any person interested in commenting on this amendment may do so by submitting comments in writing to the BLM Privacy Office, 1849 C Street, NW., 725 LS, Washington, DC 20240; hand delivering comments to the BLM Privacy Office, 1620 L Street, Suite 700, Washington, DC 20036; or e-mailing comments to privacy@blm.gov. Before including your address, telephone number, e-mail address, or other personal identifying information in your comment, you should be aware that your entire comment-including your personal identifying information-may be made publicly available at any time. While you can ask us in your comment to withhold your personal identifying information from public review, we cannot guarantee that we will be able to do so.

FOR FURTHER INFORMATION CONTACT: Robert Roudabush, Division Chief, Rangeland Resources, Bureau of Land Management, 1849 C Street, NW., Room 201 LS, Washington, DC 20240, phone number 202-912-7222, or e-mail Rob_Roudabush@blm.gov.

SUPPLEMENTARY INFORMATION: The BLM maintains the Range Management system of records. The purpose of this system is to (1) maintain an orderly record of grazing permittee information, allotment information, historical allotment or grazing permittee information used to manage authorized grazing and grazing related activity on public land; (2) maintain support documentation to manage authorizations; (3) maintain billing and collections information; (4) maintain grazing decisions; (5) maintain correspondence related to grazing authorizations and allotments; (6) document unauthorized use; (7) enable the BLM to effectively administer livestock grazing and associated activities on public lands; and (8) provide information to state, local and tribal governments, and other Federal agencies, businesses, organizations, and individuals to assist in transparency and promote the orderly administration of livestock grazing on public lands.

For the purposes of this document a grazing permitee is an individual or business authorized to graze livestock on public land, an applicant for an authorization to graze livestock on public land, or a base property owner.

These amendments are in accordance with the recent decision in Western Watersheds Project v. Bureau of Land Management, Case No. CV 09-482-CWD, Memorandum Decision and Order (D. Idaho Sept. 13, 2010). In this case, the Court found that any privacy interest grazing permittees have in their names and addresses are minimal and the public interest in disclosing the names and addresses of permittees is substantial. Therefore, the Court held that the disclosure of the names and addresses of permittees would not constitute a clearly unwarranted invasion of personal privacy, and that the Department's reliance on Exemption 6, under the Freedom of Information Act for withholding this information, was not justified.

The amendments to the Range Management system of records will be effective as proposed at the end of the comment period (the comment period will end 40 days after the publication of this notice in the Federal Register), unless comments are received which would require a contrary determination. The DOI will publish a revised notice if changes are made based upon a review of the comments received.

Annette Cathcart,
Acting BLM Privacy Act Officer.

INTERIOR/LLM-2

SYSTEM NAME:

Range Management System—Interior, LLM-2.

SECURITY CLASSIFICATION:

Unclassified.

SYSTEM LOCATION:

Grazing case files in paper medium are maintained and can be accessed at the local field office where the grazing authorization is issued and managed. A grazing authorization consists of a permit, lease, or exchange of use agreement. Paper records can be viewed at the local field office, but are not consolidated by the Bureau of Land Management (BLM) and must be viewed at individual field offices. The Range Management system database called the Rangeland Administration System (RAS) is maintained and can be accessed at the U.S. Department of the Interior, Bureau of Land Management, National Operation Center, Denver Federal Center, Building 50, Denver, Colorado 80225. The records in RAS can also be accessed from the BLM Headquarters Office in Washington, DC and from all BLM state and field offices, and in all of the BLM public rooms.

CATEGORIES OF INDIVIDUALS COVERED BY THE SYSTEM:

Records are maintained on individuals and businesses that are authorized to graze livestock on lands administered by the BLM, applicants for grazing authorizations, base property owners, and lien holders that have notified BLM. Only records reflecting personal information of individuals (i.e. citizens of the United States or aliens lawfully admitted for permanent residence) are subject to the Privacy Act. This system contains records which are not subject to the Privacy Act.

CATEGORIES OF RECORDS IN THE SYSTEM:

The paper records may contain the grazing permittee's name, address, telephone number; BLM assigned case file number and operator number; grazing allotment description; grazing applications; grazing preference summary and history; signed grazing authorization with all terms and conditions (including permits, leases and exchange of use agreements); grazing fee and service charge billing statements; evidence of ownership or control of base property; notice from lien holder with lien holder's name and address; corporate or partnership documentation; affiliate documentation; notice of authorized representative with authorized representative's name, address and phone number; livestock control agreements; copies of brand registration; closed unauthorized use case records; Cooperative Range Improvement Agreements; Range Improvement Permits; Assignment of Range Improvements; grazing decisions; correspondence to, or received from, the grazing permittee; and status of National Environmental Policy Act (NEPA) documentation. Information is provided by an applicant, grazing permittee, lien holder, and persons or businesses such as realtors or consultants, representing the grazing permittee. Information is provided either at or to a BLM facility. Some information, such as information related to permit compliance, is collected by BLM personnel. Paper records may contain information (e.g., correspondence, signed authorization) that is not stored in the electronic record.

The electronic record may contain the grazing permittee's name, address, telephone number; BLM assigned case file number and operator number; grazing allotment description and information; current grazing application; grazing preference summary; terms and conditions of the current grazing authorization; grazing fee and service charge billing statements; reports regarding compliance with terms and conditions of permits; notice of lien holder; and notice of authorized representative. Information is provided by the grazing permittee, lien holder, and persons or businesses representing the grazing permittee, such as realtors or consultants. Information is provided either at or to a BLM facility. Some information, such as information related to permit compliance, is collected by BLM personnel. Information is entered into the RAS by an authorized BLM employee or contractor. Information that is available on the RAS public Web site is available in the paper records and may be available at the local office on request.

AUTHORITY FOR MAINTENANCE OF THE SYSTEM:

43 U.S.C. 315, et seq.

ROUTINE USE OF THE RECORDS MAINTAINED IN THE SYSTEM, INCLUDING CATEGORIES OF USERS AND THE PURPOSES OF SUCH USES:

The primary uses of the records are:

(1) To provide the BLM, the DOI or state, local and tribal governments, and Federal agencies with relevant information about grazing authorizations, including decisions to authorize grazing on public lands, to allow BLM to administer livestock grazing on public rangelands, and to allow other government agencies to manage activities related to BLM's grazing program in accordance with applicable laws and regulations,

(2) To ensure that grazing permittees and interested members of the public have appropriate opportunity to be informed about the public land grazing program administered by the BLM,

(3) To print statements of grazing preference, grazing authorizations, billings for grazing fees, and to generate reports, and

(4) To provide grazing information, including allotment and pasture boundaries, to the public through an external Web site.

The publicly accessible Web site makes a number of reports available to the public. The reports are generated from the information in RAS. The BLM will provide personal and corporate names and addresses of grazing permittees on the publicly accessible Web site. Telephone numbers of individuals with a grazing authorization will not be made available on the publicly accessible Web site. Any personal financial information also will not be made available on the publicly accessible Web site. After the system amendment is published in the Federal Register, BLM will notify permittees of a 60 day opportunity to provide an alternate mailing address before providing access to names and addresses of individuals through the RAS public Web site.

Disclosures outside the DOI may be made without the consent of the grazing permittee to whom the record pertains under the routine uses listed below:

(1)(a) To any of the following entities or individuals, when the circumstances set forth in paragraph (b) are met:

(i) The U.S. Department of Justice (DOJ);

(ii) A court or an adjudicative or other administrative body;

(iii) A party in litigation before a court or an adjudicative or other administrative body; or

(iv) Any DOI employee acting in his or her individual capacity if DOI or DOJ has agreed to represent that employee or pay for private representation of the employee;

(b) When:

(i) One of the following is a party to the proceeding or has an interest in the proceeding:

(A) DOI or any component of DOI;

(B) Any other federal agency appearing before the Office of Hearings and Appeals;

(C) Any DOI employee acting in his or her official capacity;

(D) Any DOI employee acting in his or her individual capacity if DOI or DOJ has agreed to represent that employee or pay for private representation of the employee;

(E) The United States, when DOJ determines that DOI is likely to be affected by the proceeding; and

(ii) DOI deems the disclosure to be:

(A) Relevant and necessary to the proceeding; and

(B) Compatible with the purpose for which the records were compiled.

(2) To a congressional office in response to a written inquiry that an individual covered by the system, or the heir of such individual if the covered individual is deceased, has made to the congressional office.

(3) To any criminal, civil, or regulatory law enforcement authority (whether Federal, state, territorial, local, or tribal) when a record, either alone or in conjunction with other information, indicates a violation or potential violation of law—criminal, civil, or regulatory in nature—and the disclosure is compatible with the purpose for which the records were compiled.

(4) To an official of another Federal agency to provide information needed in the performance of official duties related to reconciling or reconstructing data files or to enable that agency to respond to an inquiry by the individual to whom the record pertains.

(5) To Federal, state, territorial, local, or tribal agencies that have requested information relevant or necessary to the hiring, firing, or retention of an employee or contractor, or the issuance of a security clearance, license, contract, grant or other benefit, when the disclosure is compatible with the purpose for which the records were compiled.

(6) To representatives of the National Archives and Records Administration (NARA) to conduct records management inspections under the authority of 44 U.S.C. 2904 and 2906.

(7) To state and local governments and tribal organizations or their representatives to provide information needed in response to court order and/or discovery purposes related to litigation, when the disclosure is compatible with the purpose for which the records were compiled.

(8) To an expert, consultant, or contractor (including employees of the contractor) of DOI that performs services requiring access to these records on DOI's behalf to carry out the purposes of the system.

(9) To appropriate agencies, entities, and persons when:

(a) It is suspected or confirmed that the security or confidentiality of information in the system of records has been compromised; and

(b) The DOI has determined that as a result of the suspected or confirmed compromise there is a risk of harm to economic or property interest, identity theft or fraud, or harm to the security or integrity of this system or other systems or programs (whether maintained by the DOI or another agency or entity) that rely upon the compromised information;

(c) The disclosure is made to such agencies, entities and persons who are reasonably necessary to assist in connection with the DOI's efforts to respond to the suspected or confirmed compromise and prevent, minimize, or remedy such harm.

(10) To the Office of Management and Budget (OMB) during the coordination and clearance process in connection with legislative affairs as mandated by OMB Circular A-19.

(11) To the Department of the Treasury to recover debts owed to the United States.

(12) To the news media when the disclosure is compatible with the purpose for which the records were compiled as determined by the BLM.

(13) To a consumer reporting agency if the disclosure requirements of the Debt Collection Act, as outlined at 31 U.S.C. 3711(e)(1), have been met.

(14) To recipients of proposed grazing decisions as set forth in Title 43 Code of Federal Regulations (CFR) Part 4160.1(a) and Final Grazing decisions in accordance with Title 43 CFR Parts 4160.3(b) and 4.21(b)(3).

(15) To commercial interests (such as hunting guides, outfitters, energy and minerals developers, and right-of-way applicants) or their representatives, whose activities are likely to affect the grazing permittee's management of livestock or maintenance or use of range improvements and who require the information in order to communicate, consult with or coordinate activities with the grazing permittee.

(16) To state and local governments and tribal organizations, or their representatives, when needed to administer their duties that directly relate to livestock grazing on BLM administered public lands.

POLICIES AND PRACTICES FOR STORING, RETRIEVING, ACCESSING, RETAINING, AND DISPOSING OF RECORDS IN THE SYSTEM:

STORAGE:

Paper records are stored in file folders in locked file cabinets and/or secure locking file rooms at BLM field offices. Electronic records are stored on disk, system hard drives, tape, or other appropriate media, and can be used to print paper or generate electronic reports.

RETRIEVABILITY:

Records are indexed and associated by grazing permittee and grazing authorization number, operator, allotment number, range improvement number, or location.

SAFEGUARDS:

Access to records that are not released under a routine use is limited to authorized personnel whose official duties require such access. The paper records are maintained in secure cabinets and/or in secure file rooms. The records are maintained with safeguards meeting the requirements of 43 CFR 2.51. Electronic records conform to the OMB and DOI guidelines reflecting the implementation of the Federal Information Security Management Act. Electronic data is protected through user identification, passwords, database permissions and software controls. Such security measures will establish different access levels for different types of users. A Privacy Impact Assessment was completed on the system to ensure that privacy protection measures were in place. BLM conducts information and records security training for all employees.

RETENTION AND DISPOSAL:

Paper records are covered by various BLM Record Schedules and the (NARA) guidance on permanent and temporary records disposition as follows:

Grazing Authorization Files, Grazing Operator Case Files, Schedule 4, Item 14a(1);

Grazing Authorization Files, Grazing Appeal Case Files, Schedule 4, Item 14a(2);

Accountable Officers Files (Grazing Bills), Schedule 6, Item 1; and

Trespass Investigative Files, Schedule 18, Item 31.

Electronic records are covered by the BLM Record Schedule 20, Item 42 and the NARA guidance on permanent and temporary records disposition.

SYSTEM MANAGER(S) AND ADDRESS:

Official responsible for the electronic record: System Owner Representative for Rangeland Management Systems, Bureau of Land Management (WO-220), Department of the Interior, Bureau of Land Management, 1849 C Street, NW., Washington, DC 20240.

The official responsible for the paper records is the Field Manager at the designated field office where a grazing permittee's or lessee's records are located. If you are unaware of the particular field office where the records are located, the State Office with administrative responsibility over your state can be contacted:

Bureau of Land Management, Arizona State Office, One North Central Avenue, Suite 800, Phoenix, Arizona 85004-4427;

Bureau of Land Management, California State Office, 2800 Cottage Way, Suite W-1834, Sacramento, California 95825-1886;

Bureau of Land Management, Colorado State Office, 2850 Youngfield Street, Lakewood, Colorado 80215-7076;

Bureau of Land Management, Idaho State Office,1387 S. Vinnell Way, Boise, Idaho 83709-1657;

Bureau of Land Management, Montana State Office, (Area of Administration: Montana, North Dakota, South Dakota), 5001 Southgate Drive, Billings, Montana 59101-4669;

Bureau of Land Management, Nevada State Office, 1340 Financial Boulevard, P.O. Box 12000, Reno, Nevada 89520-0006;

Bureau of Land Management, New Mexico State Office, (Area of Administration: New Mexico, Kansas, Oklahoma, Texas), 301 Dinosaur Trail, P.O. Box 27115, Santa Fe, New Mexico 87502-0115;

Bureau of Land Management, Oregon State Office, (Area of Administration: Oregon, Washington), 333 SW 1st Avenue, Portland, Oregon 97204;

Bureau of Land Management, Utah State Office, 440 West 200 South, Suite 500, Salt Lake City, Utah 84145-0155;

Bureau of Land Management, Wyoming State Office, (Area of Administration: Wyoming, Nebraska), 5353 Yellowstone Avenue, P.O. Box 1828, Cheyenne, Wyoming 82003-1828.

NOTIFICATION PROCEDURES:

An individual requesting notification of the existence of records on himself or herself should send or provide a signed, written inquiry to the System Manager or the Privacy Officer at the respective BLM State Office as identified above or at the local BLM field office. The request envelope and letter should both be clearly marked “PRIVACY ACT INQUIRY.” A request for notification must meet the requirements of 43 CFR 2.60.

RECORDS ACCESS PROCEDURES:

An individual requesting records on himself or herself should send a signed, written inquiry to the Systems Manager or the Privacy Officer at the respective BLM State Office as identified above. The request should describe the records sought as specifically as possible. The request envelope and letter should both be clearly marked “PRIVACY ACT REQUEST FOR ACCESS.” A request for access must meet the requirements of 43 CFR 2.63.

CONTESTING RECORDS PROCEDURES:

An individual requesting corrections to or the removal of material from his or her records should send a signed, written request to the System Manager or the Privacy Officer at the respective BLM State Office as identified above. A request for corrections or removal must meet the requirements of 43 CFR 2.71.

RECORD SOURCE CATEGORIES:

Information is provided by the grazing permittee, applicant, lien holder, business, or individual representing the grazing permittee. Some information, such as permit compliance, is collected by BLM personnel.

EXEMPTIONS CLAIMED FOR THE SYSTEM:

None.

[FR Doc. 2010-32878 Filed 12-28-10; 8:45 am]

BILLING CODE 4310-84-P